Title 3—

The President

Presidential Determination No. 2006-9 of February 7, 2006

Determination to Waive Military Coup-Related Provision of the Foreign Operations, Export Financing, and Related Programs Appropriations Act, 2006, with respect to Pakistan

Memorandum for the Secretary of State

Pursuant to the authority vested in me by the Constitution and laws of the United States, including section 534(j) of the Foreign Operations, Export Financing, and Related Programs Appropriations Act, 2006 (the “Act”) (Public Law 109-102), and Public Law 107-57, as amended, I hereby determine and certify, with respect to Pakistan, that a waiver of section 508 of the Act:

(a) would facilitate the transition to democratic rule in Pakistan; and

(b) is important to United States efforts to respond to, deter, or prevent acts of international terrorism.

Accordingly, I hereby waive, with respect to Pakistan, the prohibition contained in section 508 of such Act.

You are authorized and directed to transmit this determination to the Congress and to arrange for its publication in the Federal Register.

B

THE WHITE HOUSE,

Washington, February 7, 2006.

[FR Doc. 06-2128

Filed 3-3-06; 8:45 am]

Billing code 4710-10-P